DEPARTMENT OF ENERGY

Federal Energy Regulatory Commission

[Docket No. AD24-7-000]

Federal and State Current Issues Collaborative; Notice of Meeting and Agenda

As first announced in the Commission's February 20, 2025 Notice in the above-captioned docket,¹ the second public meeting of the Federal and State Current Issues Collaborative (Collaborative) will be held on April 30, 2025, from 9 a.m.-1 p.m. EDT, in the Kevin J. McIntyre Commission Meeting Room at the Federal Energy Regulatory Commission in Washington, DC Commissioners may attend and participate in this meeting. Attached to this Notice is an agenda for the meeting.

¹ “Fed. and State Current Issues Collaborative”, Notice, Docket No. AD24-7-000 (issued Feb. 20, 2025).

The purpose of this meeting is to discuss generic issues related to gas-electric coordination and gas storage. Commissioners do not intend to discuss at this meeting any specific proceeding before the Commission, including proceedings that involve similar issues. These proceedings include, but are not limited to:

Baltimore Gas and Electric Company v. Columbia Gas Transmission, LLC | Docket No. RP25-740-000.
Columbia Gas Transmission, LLC | Docket No. RP20-1060-012.
Colt Pipelines (North Texas) L.P | Docket No. PR25-33-000.
PJM Interconnection, L.L.C | Docket Nos. ER25-785-001; ER25-785-002.

The meeting will be open to the public for listening and observing and on the record. There is no fee for attendance and registration is not required. The public may attend in person or via Webcast.² This conference will be transcribed. Transcripts will be available for a fee from Ace Reporting, 202-347-3700.

² A link to the Webcast will be available here on the day of the event: https://www.ferc.gov/federal-state-current-issues-collaborative.

Commission conferences are accessible under section 508 of the Rehabilitation Act of 1973. For accessibility accommodations, please send an email to accessibility@ferc.gov or call toll free 1-866-208-3372 (voice) or 202-208-8659 (TTY), or send a fax to 202-208-2106 with the required accommodations. More information about the Collaborative is available here: https://www.ferc.gov/federal-state-current-issues-collaborative.

For questions related to the Collaborative, please contact: Robert Thormeyer, 202-502-8694, robert.thormeyer@ferc.gov, CeCe Coffey, 202-502-8040, cecelia.coffey@ferc.gov, or Kimberly Duffley, 202-898-1305, kduffley@naruc.org.

Dated: April 14, 2025.
Debbie-Anne A. Reese,
Secretary.

[FR Doc. 2025-06739 Filed 4-17-25; 8:45 am]

BILLING CODE 6717-01-P